DEPARTMENT OF LABOR

Employment and Training Administration

[TA-W-82,680A; TA-W-82,680B]

Supermedia LLC, Publishing Operations Divison, Account Management Group, a Subsidiary of Dex Media Inc., Including On-Site Leased Workers From TAC Worldwide Companies, St. Petersburg, Florida; Supermedia LLC, Publishing Operations Divison, Internet Publishing Operations Group, a Subsidiary of Dex Media Inc., Including On-Site Leased Workers From TAC Worldwide Companies, St. Petersburg, Florida; Supermedia LLC, Publishing Operations Divison, Listing Management Group, a Subsidiary of Dex Media Inc., Including On-Site Leased Workers From TAC Worldwide Companies, St. Petersburg, Florida; Notice of Revised Determination on Reconsideration

On August 2, 2013, the Department of Labor (Department) issued a negative determination applicable to workers and former workers of SuperMedia LLC, Publishing Operation Division, Account Management Group, Internet Publishing Operations Group, and Listing Management Group, a subsidiary of Dex Media, Inc., St. Petersburg, Florida. Workers within the Publishing Operations Division are separately identifiable by service supplied.

The subject worker groups include on-site leased workers from TAC Worldwide Companies.

Workers of SuperMedia LLC, Publishing Operation Division, Accounting Management Group (TA-W-82,680) and the Listing Management Group (TA-W-82,680B), St. Petersburg, Florida were eligible to apply for Trade Adjustment Assistance (TAA) under TA-W-74,033 (expired on July 27, 2012).

The group eligibility requirements for workers of a firm under Section 222(a) of the Act, 19 U.S.C. 2272(a), are satisfied if the following criteria are met:

(1) a significant number or proportion of the workers in such workers' firm have become totally or partially separated, or are threatened to become totally or partially separated;

(2)(B)(i)(I) there has been a shift by the workers' firm to a foreign country in the production of articles or supply of services like or directly competitive with those produced/supplied by the workers' firm; OR

(II) there has been an acquisition from a foreign country by the workers' firm of articles/services that are like or directly competitive with those produced/supplied by the workers' firm; AND

(ii) the shift/acquisition must have contributed importantly to the workers' separation or threat of separation.

After the issuance of the negative determination, the Department received revised information from the subject firm regarding Account Management Group (TA-W-82,680) and Internet Publishing Operations Group (TA-W-82,680A).

With regards to Account Management Group and Internet Publishing Operations Group, the Department determines that Section 222(a)(1) has been met because a significant number or proportion of the workers in each Group have become totally or partially separated.

With regards to Account Management Group (TA-W-82,680) and Internet Publishing Operations Group (TA-W-82,680A), the Department determines that Section 222(a)(2)(B) has been met because SuperMedia LLC has shifted to a foreign country the supply of services like or directly competitive with those supplied by the subject workers, which contributed importantly to worker group separations at SuperMedia LLC, Publishing Operation Division, Account Management Group and Internet Publishing Operations Group, St. Petersburg, Florida.

The Department did not receive new or revised information regarding Listing Management Group (TA-W-82,680B). Consequently, the determination applicable to workers and former workers of SuperMedia LLC, Publishing Operation Division, Listing Management Group, St. Petersburg, Florida is unchanged.

Conclusion

I affirm that, with regards to SuperMedia LLC, Publishing Operation Division, Listing Management Group, St. Petersburg, Florida, the requirements of Section 222 of the Act, 19 U.S.C. § 2272, have not been met and, therefore, deny the petition for group eligibility of SuperMedia LLC, Publishing Operation Division, Listing Management Group, a subsidiary of Dex Media, Inc., St. Petersburg, Florida (TA-W-82,680B), in accordance with Section 223 of the Act, 19 U.S.C. 2273.

After careful review of the new information obtained during the reconsideration investigation, I determine that workers and former workers of SuperMedia LLC, Publishing Operation Division, Account Management Group and Internet Publishing Operations Group, St. Petersburg, Florida, meet the worker group certification criteria under Section 222(a) of the Act, 19 U.S.C. 2272(a). In accordance with Section 223 of the Act, 19 U.S.C. 2273, I make the following certification:

All workers of SuperMedia LLC, Publishing Operation Division, Account Management Group, a subsidiary of Dex Media, Inc., St. Petersburg, Florida (TA-W-82,680) who became totally or partially separated from employment on or after July 28, 2012 through two years from the date of certification, and all workers in the group threatened with total or partial separation from employment on the date of certification through two years from the date of certification, are eligible to apply for adjustment assistance under Chapter 2 of Title II of the Trade Act of 1974, as amended; and

All workers of SuperMedia LLC, Publishing Operation Division, Internet Publishing Operations Group, a subsidiary of Dex Media, Inc., St. Petersburg, Florida (TA-W-82,680A) who became totally or partially separated from employment on or after April 17, 2012 through two years from the date of certification, and all workers in the group threatened with total or partial separation from employment on the date of certification through two years from the date of certification, are eligible to apply for adjustment assistance under Chapter 2 of Title II of the Trade Act of 1974, as amended.

Signed in Washington, DC, this 30th day of August, 2013.
Del Min Amy Chen,
Certifying Officer, Office of Trade Adjustment Assistance.

[FR Doc. 2013-24189 Filed 10-2-13; 8:45 am]

BILLING CODE 4510-FN-P